DEPARTMENT OF AGRICULTURE

Food Safety and Inspection Service

[Docket No. 03-045N]

Codex Alimentarius Commission: Thirty-sixth Session of the Codex Committee on Food Hygiene

AGENCY: Food Safety and Inspection Service, USDA.

ACTION: Notice of public meeting and request for comments.

SUMMARY: The Office of the Under Secretary for Food Safety, of the U.S. Department of Agriculture (USDA), and the Food and Drug Administration (FDA), of the Department of Health and Human Services, are sponsoring a public meeting on February 24, 2004, to present and receive comment on draft United States positions on all issues coming before the Thirty-sixth Session of the Codex Committee on Food Hygiene (CCFH), which will be held in Washington, DC, March 29-April 3, 2004.

DATES: The public meeting is scheduled for Tuesday, February 24, 2004, from 1 p.m. to 5 p.m.

ADDRESSES: The public meeting will be held in the Harvey Wiley Federal Building, 5100 Paint Branch Parkway, College Park, MD, 20740, in Conference Room 1A003.

To receive copies of the documents relevant to this notice, contact the Food Safety and Inspection Service (FSIS) Docket Clerk, U.S. Department of Agriculture, Food Safety and Inspection Service, Room 102, Cotton Annex, 300 12th Street, SW., Washington, DC 20250-3700. The documents will also be accessible via the World Wide Web at the following address: http://www.fao.org/codexalimentarius.net.

Send comments, (an original and two copies) to the FSIS Docket Clerk and reference Docket #03-045N. All comments submitted in response to this notice will be available for public inspection in the FSIS Docket Room between 8:30 a.m. and 4:30 p.m., Monday through Friday.

FOR FURTHER INFORMATION CONTACT: Syed A. Ali, International Issues Analyst, U.S. Codex Office, Food Safety and Inspection Service, Room 4861, South Building, 1400 Independence Avenue, SW., Washington, DC 20250-3700, Telephone (202) 205-7760, Fax (202) 720-3157. Persons requiring a sign language interpreter or other special accommodations should notify Mr. Ali at the above numbers.

SUPPLEMENTARY INFORMATION:

Background

The Codex Alimentarius Commission (Codex) was established in 1962 by two United Nations organizations, the Food and Agriculture Organization and the World Health Organization. Codex is the major international organization for encouraging fair international trade in food and protecting the health and economic interests of consumers. Through adoption of food standards, codes of practice, and other guidelines developed by its committees, and by promoting their adoption and implementation by governments, Codex seeks to ensure that the world's food supply is sound, wholesome, free from adulteration, and correctly labeled. The Codex Committee on Food Hygiene was established to draft basic provisions on food hygiene for all foods. The Government of the United States hosts this Committee and will chair the Committee meeting.

Issues To Be Discussed at the Public Meeting

The following specific issues will be discussed during the public meeting:

1. Matters Referred by the Codex Alimentarius Commission and/or Other Codex Committees to the Food Hygiene Committee.

2. Endorsement of Hygiene Provisions in the Codex Standards and Codes of Practice:

• Proposed Draft Code of Practice for Fish and Fishery Products: Section 2.2 and 2.6 of Definitions, Section 6—Aquaculture and Section 10—Processing of Quick-Frozen Coated Fish Products.

• Draft Standard for Salted Atlantic Herring and Salted Sprat.

3. Proposed Draft Code of Hygienic Practice for Milk and Milk Products at Step 7.

4. Discussion Papers on the Management of the Work of the Committee:

• Proposed Draft Process by which the Committee on Food Hygiene Could Undertake its Work in Microbiological Risk Assessment/Risk Management.

• Discussion Paper on the Development of Process, Procedures and Criteria to Establish Priorities for the Work of the Codex Committee on Food Hygiene.

• Discussion Paper on the Development of Options for a Cross-Committee Interaction Process.

5. Proposed Draft Principles and Guidelines for the Conduct of Microbiological Risk Management at Step 4.

6. Proposed Draft Guidelines on the Application of General Principles of Food Hygiene to the [Management] of Listeria Monocytogenes in Foods at Step 4.

7. Proposed Draft Revision of the Code of Hygienic Practice for Egg Products (CAC/RCP 15-1976, amended 1985) at Step 4.

8. Proposed Draft Guidelines for the Validation of Food Hygiene Control Measures at Step 4.

9. Reports of the ad hoc Expert Consultations on Risk Assessment of Microbiological Hazards in Food and Related Matters:

• Discussion Paper on Risk Management Strategies for Campylobacter ssp. In Poultry.

• Risk Profile for Enterohemorragic E. coli Including the Identification of the Commodities of Concern, Including Sprouts, Ground Beef and Pork.

• Discussion Paper on Risk Management Strategies for Samonella ssp. In Poultry.

10. Discussion Paper on the Proposed Draft Revision of the Recommended International Code of Hygienic Practice for Foods for Infants and Children.

• Risk Profile for E. sakazakii.

11. Proposed Draft Guidelines for the Hygienic Reuse of Processing Water in Food Plants.

12. Discussion Paper on Proposed Draft Guidelines for Evaluating Objectionable Matter in Food.

Additional Public Notification

Public awareness of all segments of rulemaking and policy development is important. Consequently, in an effort to better ensure that minorities, women, and persons with disabilities are aware of this notice, FSIS will announce it and make copies of this Federal Register publication available through the FSIS Constituent Update. FSIS provides a weekly FSIS Constituent Update, which is communicated via Listserv, a free e-mail subscription service. In addition, the update is available on-line through the FSIS web page located at http://www.fsis.usda.gov. The update is used to provide information regarding FSIS policies, procedures, regulations, Federal Register notices, FSIS public meetings, recalls, and any other types of information that could affect or would be of interest to our constituents/stakeholders. The constituent Listserv consists of industry, trade, and farm groups, consumer interest groups, allied health professionals, scientific professionals, and other individuals that have requested to be included. Through the Listserv and web page, FSIS is able to provide information to a much broader, more diverse audience.

For more information contact the Congressional and Public Affairs Office, at (202) 720-9113. To be added to the free e-mail subscription service (Listserv) go to the “Constituent Update” page on the FSIS Web site at http://www.fsis.usda.gov/oa/update/update.htm. Click on the “Subscribe to the Constituent Update Listserv” link, then fill out and submit the form.

Done at Washington, DC, on January 29, 2004.
F. Edward Scarbrough,
U.S. Manager for Codex Alimentarius.

[FR Doc. 04-2133 Filed 2-2-04; 8:45 am]

BILLING CODE 3410-DM-P